DEPARTMENT OF LABOR

Occupational Safety and Health Administration

[Docket No. ICR-1218-0110(2002)]

Consultation Agreements (29 CFR Part 1908); Revision of the Office of Management and Budget's (OMB) Approval of Information-Collection (Paperwork) Requirements

AGENCY: Occupational Safety and Health Administration (OSHA), Labor.

ACTION: Request for comments.

SUMMARY: OSHA solicits comments concerning its proposal to revise the total burden hour estimates for, and to extend OMB approval of, information-collection requirements specified by the Consultation Agreements and Procedures at 29 CFR Part 1908. The Consultation Agreements establish the requirements for cooperative agreements with the states, under which the states ¹ receive funds from OSHA to provide free Occupational Safety and Health consultation services to employers. The rule also establishes procedures governing the provision of services, and the obligations of employers receiving the consultation service.

¹ As used in this notice, States include the District of Columbia and the territories receiving federal funds for delivery services under section 21(d) of the Occupational Safety and Health (Compliance Assistance Authorization) Act of 1998.

DATES: Submit written comments on or before July 1, 2002.

ADDRESSES: Submit written comments to the Docket Office, Docket No. ICR-1218-0110(2002), OSHA, U.S. Department of Labor, Room N-2625, 200 Constitution Avenue, NW., Washington, DC 20210; telephone (202) 693-2350. Commenters may transmit written comments of 10 pages or less by facsimile to (202) 693-1648.

FOR FURTHER INFORMATION CONTACT: Francis Yebesi, Directorate of Federal-State Operations, OSHA, U.S. Department of Labor, Room N-3700, 200 Constitution Avenue, NW., Washington, DC 20210; telephone (202) 693-2213. A copy of the Agency's Information-Collection Request (ICR) supporting the need for information collection specified in the Consultation Agreements is available for inspection and copying in the Docket Office, or by requesting a copy from Francis Yebesi at (202) 693-2213. For electronic copies of the ICR contact OSHA on the internet at http://www.osha.gov/comp-links.html, and select “Information Collection Requests.”

SUPPLEMENTARY INFORMATION:

I. Background

The Department of Labor, as part of its continuing effort to reduce paperwork and respondent (i.e. the states and employers) burden, conducts pre-clearance consultation program to provide the public with an opportunity to comment on proposed and continuing information-collection requirements in accordance with the Paperwork Reduction Act of 1995 (PRA-95) (44 U.S.C. 3506(c)(2)(A)). The program ensures that information is in the desired format, reporting burden (time and costs) is minimal, collection instruments are clearly understood, and OSHA's estimate of the information collection burden is correct. The Occupational Safety and Health Act of 1970 (the Act) authorizes information collection by employers as necessary or appropriate for enforcement of the Act or for developing information regarding the causes and prevention of occupational accidents. (29 U.S.C. 657.) The Occupational Safety and Health Compliance Assistance Authorization Act (CAAA) of 1998 requires the Secretary of Labor to establish and support cooperative agreements with the States under which the states will provide occupational safety and health consultation services to employers. The CAAA requires that onsite consultations conducted pursuant to such agreements include a provision for participation by employees. It also requires the states to ensure that; hazards are corrected in a timely manner, that uncorrected imminent danger situations and serious hazards are reported to appropriate enforcement authorities, and that employers meeting certain requirements are granted inspection exemption, that the consultation service is only delivered at the request of the employer and that priority in scheduling is given to small businesses in higher hazard industries.

The information-collection requirements in the Consultation Agreements Rule of 1908 provides OSHA with the tools to monitor compliance with the requirements of the Act and the CAAA and for measuring and evaluating the success of the program. It is also the basis for reporting to Congress in compliance with Government Performance Results Acts requirements.

H. Special Issues for Comment

OSHA has particular interest in comments on the following issues:

• Whether the information-collection requirements are necessary for the proper performance of the Agency's functions, including whether the information is useful;

• The accuracy of OHSA's estimate of the burden (time and cost) of the information-collection requirements, including the validity of the methodology and assumptions used;

• The quality, utility, and clarity of the information collected; and

• Ways to minimize the burden on the states and employers who provide information, for example, by using automated, or other technological information-collection and -transmission techniques.

III. Proposed Actions

OSHA is requesting to increase the existing burden-hour estimate for, and to extend OMB approval of, the collection-of-information requirements specified by the Rule. In this regard, the Agency is requesting an increase in the current burden hour estimate from 11,905 hours to 17,535 hours, a total increase of 5,630 hours. Based on a recent innovation that allows the capturing of attributes of excellence in safety and health management systems, state consultants are now required to enter information on a web-based safety and health program assessment worksheet. The completion of this worksheet accounts for the increase in burden hours. OSHA will summarize the comments submitted in response to this notice, and will include this summary in its request to OMB to extend its approval of these information-collection requirements.

Type of Review: Extension of currently approved information-collection requirements.

Title: Consultation Agreements.

OMB Number: 1218-0110.

Affected Public: Business or other for-profit; not-for-profit institutions; Federal government; State governments.

Number of Respondents: 27,000.

Frequency: On occasion.

Average Time Per Response: Varies from approximately 5 minutes for a consultant to compose a “List of Hazards” to 32 hours (annually) for the State to compile and compose information for the cooperative agreement.

Estimated Total Burden Hours: 17,535 hours.

Estimated Cost (Operation and Maintenance): $0.

IV. Authority and Signature

John L. Henshaw, Assistant Secretary of Labor for Occupational Safety and Health, directed the preparation of this notice. The authority for this notice is the Paperwork Reduction Act of 1995 (44 U.S.C. 3506), and Secretary of Labor's Order No. 3-200 (65 FR 50017).

Dated: Signed at Washington, DC on April 25, 2002.
John L. Henshaw,
Assistant Secretary of Labor.

[FR Doc. 02-10641 Filed 4-29-02; 8:45 am]

BILLING CODE 4510-26-M